Title 3—

The President

Presidential Determination No. 2003-16 of March 14, 2003

Waiver of Coup-Related Sanctions for Pakistan

Memorandum for the Secretary of State

Pursuant to the authority vested in me by the Constitution and laws of the United States, including section 1(b)(1) of the Pakistan Waiver Act, Public Law 107-57, I hereby determine and certify that a waiver of section 508 of the Foreign Operations, Export Financing, and Related Programs Appropriations, Division E of the Consolidated Appropriations Resolution, 2003, Public Law 108-7

•

would facilitate the transition to democratic rule in Pakistan; and

•

is important to United States efforts to respond to, deter, or prevent acts of international terrorism.

I hereby waive, with respect to Pakistan, section 508 of Division E of Public Law 108-7.

You are authorized and directed to transmit this determination to the Congress and to arrange for its publication in the Federal Register.

B

THE WHITE HOUSE,

Washington, March 14, 2003.

[FR Doc. 03-6953

Filed 3-20-03; 8:45 am]

Billing code 4710-10-P